DEPARTMENT OF TRANSPORTATION

Federal Aviation Administration

14 CFR Part 16

[Docket No. FAA-2012-0176]

RIN 2120-AJ97

Rules of Practice for Federally-Assisted Airport Enforcement Proceedings (Retrospective Regulatory Review)

AGENCY: Federal Aviation Administration (FAA), DOT.

ACTION: Notice of proposed rulemaking (NPRM); correction.

SUMMARY: The FAA is correcting a notice of proposed rulemaking that published in the Federal Register on March 5, 2012 (77 FR 13027). In that document, the FAA proposed to amend its regulations to update, simplify, and streamline rules of practice and procedure for filing and adjudicating complaints against federally-assisted airports. This correction clarifies that the notice number for that proposed rulemaking is 12-02.

DATES: The comment period will close on May 4, 2012.

FOR FURTHER INFORMATION CONTACT: Melissa Loughlin, Office of Rulemaking, ARM-204, Federal Aviation Administration, 800 Independence Ave. SW., Washington, DC 20591; telephone (202) 267-4055; facsimile (202) 267-5075; email melissa.loughlin@faa.gov.

SUPPLEMENTARY INFORMATION:

Background

On March 5, 2012, the FAA published a notice of proposed rulemaking (NPRM) entitled, “Rules of Practice for Federally-Assisted Airport Enforcement Proceedings (Retrospective Regulatory Review)” (77 FR 13027).

In that NPRM, the FAA proposed to update, simplify, and streamline rules of practice and procedure for filing and adjudicating complaints against federally-assisted airports. The proposed requirements would improve efficiency by enabling parties to file submissions with the FAA electronically, and by incorporating modern business practices into how the FAA handles complaints. If adopted, the amendment would reflect changes in applicable laws and regulations, and apply lessons learned since the existing rules were implemented in 1996.

Correction

In FR Doc. 2012-4993, beginning on page 13027 in the Federal Register of March 5, 2012, make the following correction:

On page 13027, in the second column and fourth line under the NPRM's publication, correct “Notice No. 12-01” to read as “Notice No. 12-02”.

Issued in Washington, DC, on March 26, 2012.
Pamela Hamilton-Powell,
Director, Office of Rulemaking.

[FR Doc. 2012-8121 Filed 4-3-12; 8:45 am]

BILLING CODE 4910-13-P